DEPARTMENT OF TRANSPORTATION

Federal Aviation Administration

14 CFR Part 39

[Docket No. FAA-2017-0068; Product Identifier 2014-SW-076-AD; Amendment 39-18981; AD 2017-16-04]

RIN 2120-AA64

Airworthiness Directives; Romtex Anjou Aeronautique (Romtex) Torso Restraint Systems

AGENCY: Federal Aviation Administration (FAA), DOT.

ACTION: Final rule.

SUMMARY: We are adopting a new airworthiness directive (AD) for Romtex torso restraint systems (restraint systems) installed on but not limited to Airbus Helicopters Model AS350B2, AS350B3, EC130B4, EC130T2, and AS355NP helicopters. This AD requires replacing certain restraint system buckles. This AD was prompted by a report of several restraint system buckle knobs breaking. The actions of this AD are intended to correct an unsafe condition on these products.

DATES: This AD is effective September 22, 2017.

The Director of the Federal Register approved the incorporation by reference of a certain document listed in this AD as of September 22, 2017.

ADDRESSES: For service information identified in this final rule, contact Romtex Anjou Aeronautique, Strada Livezii nr. 98, 550042, Sibiu, Romania; telephone +40 269 243 918; email seatbelts@anjouaero.com. You may review the referenced service information at the FAA, Office of the Regional Counsel, Southwest Region, 10101 Hillwood Pkwy., Room 6N-321, Fort Worth, TX 76177. It is also available on the Internet at http://www.regulations.gov by searching for and locating Docket No. FAA-2017-0068.

Examining the AD Docket

You may examine the AD docket on the Internet at http://www.regulations.gov by searching for and locating Docket No. FAA-2017-0068; or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: David Hatfield, Aviation Safety Engineer, Safety Management Section, Rotorcraft Standards Branch, FAA, 10101 Hillwood Pkwy., Fort Worth, TX 76177; telephone (817) 222-5116; email david.hatfield@faa.gov.

SUPPLEMENTARY INFORMATION:

Discussion

On February 17, 2017, at 82 FR 10971, the Federal Register published our notice of proposed rulemaking (NPRM), which proposed to amend 14 CFR part 39 by adding an AD that would apply to Romtex restraint systems with a rotary buckle sub-assembly (buckle assembly) with a part number and serial number listed in Romtex Service Bulletin No. 358SB-14-101, Revision 1, dated December 12, 2014. These restraint systems are installed on, but not limited to, Airbus Helicopters Model AS350B2, AS350B3, EC130B4, EC130T2, and AS355NP helicopters. The NPRM proposed to require inspecting the buckle assembly to determine whether the straps release, marking the seat as inoperative if the buckle fails to release the straps, and replacing the buckle assembly within 180 hours time-in-service (TIS). The NPRM also proposed to prohibit installing the affected buckle assemblies on any helicopter. The proposed requirements were intended to prevent a restraint system strap from failing to release from the buckle, preventing occupants from exiting the helicopter during an emergency.

The NPRM was prompted by AD No. 2014-0279, dated December 19, 2014, issued by EASA, which is the Technical Agent for the Member States of the European Union, to correct an unsafe condition for Romtex Model 358 torso restraint systems installed on Airbus Helicopters Model EC130T2, AS350B2, and AS350B3 helicopters. EASA advises that ruptures have occurred on the upper side (knob) of several rotary buckles installed on these restraint systems. EASA states the material used in two batches of the buckle assembly were altered by a supplier, resulting in a specification different from the approved design data. The EASA AD states that this condition could prevent the release of the restraint system straps as intended after an emergency landing. To address this unsafe condition, the EASA AD requires inspecting the buckle assembly for proper operation, replacing or marking as inoperative any buckle assembly that fails to release the straps before further flight, and replacing all buckle assemblies within 6 months. The EASA AD also prohibits installing these buckle assemblies on any aircraft.

Comments

We gave the public the opportunity to participate in developing this AD, but we did not receive any comments on the NPRM.

FAA's Determination

These products have been approved by the aviation authority of Romania and are approved for operation in the United States. Pursuant to our bilateral agreement with Romania, EASA, its technical representative, has notified us of the unsafe condition described in the EASA AD. We are issuing this AD because we evaluated all information provided by EASA and determined the unsafe condition exists and is likely to exist or develop on other helicopters of these same type designs and that air safety and the public interest require adopting the AD requirements as proposed except we are correcting the name in the related service bulletin from Romtex to Anjou Aero. This change is consistent with the intent of the proposals in the NPRM and will not increase the economic burden on any operator nor increase the scope of this AD.

Differences Between This AD and the EASA AD

The EASA AD requires compliance within 30 days for the buckle inspection and 6 months for replacement; this AD requires the inspection within 30 hours TIS and replacement within 180 hours TIS. The EASA AD does not apply to Model EC130B4 and AS355NP helicopters, and this AD does.

Related Service Information Under 1 CFR Part 51

We reviewed Anjou Aero Service Bulletin No. 358SB-14-101, Revision 1, dated December 12, 2014 (SB 358SB-14-101), which specifies removing from service certain part-numbered and serial-numbered buckle assemblies, consisting of the rotary buckle, belt, and attachment.

This service information is reasonably available because the interested parties have access to it through their normal course of business or by the means identified in the ADDRESSES section.

Costs of Compliance

We estimate that this AD affects 893 helicopters of U.S. Registry.

We estimate that operators will incur the following costs in order to comply with this AD. At an average labor rate of $85 per hour, inspecting the buckle assembly requires about .5 work-hour, for a cost per helicopter of $43 and a total cost of $38,399 for the fleet. Replacing each buckle assembly requires about .5 work-hour, and required parts will cost $42,000, for a cost per helicopter of $42,043 and a total cost to U.S. operators of $37,544,399.

According to the Anjou Aero service information, some of the costs of this AD may be covered under warranty, thereby reducing the cost impact on affected individuals. We do not control warranty coverage by Anjou Aero. Accordingly, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-16-04 Romtex Anjou Aeronautique (Romtex) Torso Restraint Systems: Amendment 39-18981; Docket No. FAA-2017-0068; Product Identifier 2014-SW-076-AD.

(a) Applicability

This AD applies to Romtex torso restraint systems (restraint systems) with a rotary buckle sub-assembly (buckle assembly) with a part number and serial number as listed in the Effectivity, paragraph 1.2, of Anjou Aero Service Bulletin No. 358SB-14-101, Revision 1, dated December 12, 2014. These restraint systems are installed on, but not limited to, Airbus Helicopters Model AS350B2, AS350B3, EC130B4, EC130T2, and AS355NP helicopters, certificated in any category.

(b) Unsafe Condition

This AD defines the unsafe condition as a broken buckle knob. This condition could result in a restraint system strap failing to release from the buckle, preventing occupants from exiting the helicopter during an emergency.

(c) Effective Date

This AD becomes effective September 22, 2017.

(d) Compliance

You are responsible for performing each action required by this AD within the specified compliance time unless it has already been accomplished prior to that time.

(e) Required Actions

(1) Within 30 hours time-in-service (TIS), inspect each restraint system for correct operation.

(i) If the straps do not release from the buckle assembly, placard the seat as inoperative. Within 180 hours TIS, replace the buckle assembly with a buckle assembly not identified in paragraph (a) of this AD.

(ii) If the straps release, within 180 hours TIS, replace the buckle assembly with a buckle assembly not identified in paragraph (a) of this AD.

(2) Do not install a restraint system with a buckle assembly identified in paragraph (a) of this AD on any helicopter.

(f) Alternative Methods of Compliance (AMOCs)

(1) The Manager, Safety Management Section, FAA, may approve AMOCs for this AD. Send your proposal to: David Hatfield, Aviation Safety Engineer, Safety Management Section, Rotorcraft Standards Branch, FAA, 10101 Hillwood Pkwy., Fort Worth, TX 76177; telephone (817) 222-5116; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2014-0279, dated December 19, 2014. You may view the EASA AD on the Internet at http://www.regulations.gov in Docket No. FAA-2017-0068.

(h) Subject

Joint Aircraft Service Component (JASC) Code: 2500 Cabin Equipment/Furnishings.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Anjou Aero Service Bulletin No. 358SB-14-101, Revision 1, dated December 12, 2014.

(ii) Reserved.

(3) For Anjou Aero service information identified in this AD, contact Romtex Anjou Aeronautique, Strada Livezii nr. 98, 550042, Sibiu, Romania; telephone +40 269 243 918; email seatbelts@anjouaero.com.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on July 27, 2017.
Scott A. Horn,
Deputy Director for Regulatory Operations, Compliance & Airworthiness Division, Aircraft Certification Service.

[FR Doc. 2017-16438 Filed 8-17-17; 8:45 am]

BILLING CODE 4910-13-P